DEPARTMENT OF THE INTERIOR

Minerals Management Service

Record of Decision for the Final “Programmatic Environmental Impact Statement for Alternative Energy Development and Production and Alternate Use of Facilities on the Outer Continental Shelf”

AGENCY: Minerals Management Service (MMS), Interior.

ACTION: Notice of Availability of a Record of Decision (ROD).

SUMMARY: MMS prepared the ROD for the establishment of an alternative energy and alternate use (AEAU) program on the Outer Continental Shelf (OCS), as authorized by Section 388 of the Energy Policy Act of 2005 (EPAct), and codified in subsection 8(p) of the OCS Lands Act. In accordance with the regulations implementing the National Environmental Policy Act (NEPA), the MMS is announcing the availability of this ROD. The decision is to select the Preferred Alternative described in the Final Programmatic Environmental Impact Statement (EIS). This decision establishes an AEAU program for the issuance of leases, easements and rights-of-way (ROW) for alternative energy activities and the alternate use of structures on the OCS and the promulgation of regulations to govern the program. Selection of the Preferred Alternative also provides MMS the option to authorize individual projects on a case-by-case basis before promulgation of the final rule. The Director, MMS signed the ROD on December 21, 2007.

Authority: This NOA is published pursuant to the regulations (40 CFR 1506.6) implementing the provisions of the NEPA of 1969 (42 U.S.C. 4321, et seq.).

SUPPLEMENTARY INFORMATION: This ROD was developed through the preparation of the final Programmatic Environmental Impact Statement Alternative Energy Development and Production and Alternate Use of Facilities on the Outer Continental Shelf (Final Programmatic EIS). The environmental impacts from potential activities that may arise from the AEAU program in the reasonably foreseeable future are assessed in the Final Programmatic EIS, which was prepared in accordance with the NEPA. Section 388 of the EPAct grants the Secretary of the Interior (Secretary) discretionary authority to issue leases, easements, or ROWs for activities on the OCS that produce or support production, transportation, or transmission of energy from sources other than oil and gas, and are not otherwise authorized by law. Examples of the general types of alternative energy project activities that MMS has the discretion to authorize may include, but are not limited to: Wind energy, wave energy, ocean current energy, solar energy, and hydrogen production. The Secretary delegated this authority to MMS.

Section 388 of the EPAct also grants the Secretary authority to issue leases, easements, or ROWs for other OCS project activities that make alternate use of existing OCS facilities for “energy-related purposes or for other authorized marine-related purposes,” to the extent such activities are not otherwise authorized by law. Such activities may include, but are not limited to: Offshore aquaculture, research, education, recreation, and support for operations and facilities authorized under the OCS Lands Act. The Secretary delegated this authority to MMS as well.

The MMS selected the Preferred Alternative that establishes an AEAU program for the issuance of leases, easements, and ROWs on the OCS for alternative energy activities and the alternate use of structures on the OCS. Selection of the Preferred Alternative also provides MMS the option to authorize, on a case-by-case basis, individual AEAU projects that are in the national interest prior to promulgation of the final rule. At the same time, the MMS will vigorously pursue its efforts to complete a comprehensive program with regulations for authorizing and managing AEAU activities on the OCS. Upon promulgation of the final rule, MMS leases, easements, and ROWs for AEAU activities on the OCS would be issued subject to the rule's provisions.

As initial mitigation measures, this decision also adopts the interim policies provided in Attachment A of the ROD and initial best management practices (BMPs) in Attachment B of the ROD. Two of the proposed BMPs were not adopted as explained in the ROD. The interim policies will guide and inform MMS' decision-making when considering any proposal for an AEAU project on the OCS. In addition, the MMS will consider and, on a case-by-case basis, may select one or more of the BMPs as appropriate to be included as a binding stipulation in any lease, easement or ROW for AEAU activities that it issues. MMS will employ and act by these policies when considering projects submitted under the AEAU program.

ROD Availability: To obtain a single printed copy of the ROD, you may contact the Minerals Management Service, Alternative Energy and Alternate Use Program (MS 4080), 381 Elden Street, Herndon, Virginia 20170. An electronic copy of the ROD is available at MMS's EIS Web site at: ocsenergy.anl.gov.

FOR FURTHER INFORMATION CONTACT: Minerals Management Service, Ms. Maureen Bornholdt, Alternative Energy and Alternate Use Program (MS 4080), 381 Elden Street, Herndon, Virginia 20170, or by phone at (703) 787-1300.

Dated: January 4, 2008.
Chris C. Oynes,
Associate Director for Offshore Minerals Management.

[FR Doc. E8-210 Filed 1-9-08; 8:45 am]

BILLING CODE 4310-MR-P